DEPARTMENT OF HEALTH AND HUMAN SERVICES

Centers for Disease Control and Prevention

[Program Announcement 01016]

Grants for Violence-Related Injury Prevention Research; Notice of Availability of Funds; Amendment

A notice announcing the availability of Fiscal Year 2001 funds to fund grants for Injury Prevention and Control Research in the priority areas of Violence and Abuse Prevention which was published in the Federal Register on December 22, 2000, (Volume 65, No. 247, pages 80891-80895). The notice is amended as follows:

On page 80892, first column, under Section C. Availability of Funds, first paragraph, line 1 should be changed to read “Approximately $2.4 million * * *”.

On page 80892, first column, under Section C. Availability of Funds, first paragraph, line 1 should be changed to read “* * * approximately 8-10 awards * * *”.

On page 80892, first column, under Programmatic Interest, the following paragraph should be inserted between the first and second paragraph:

“Research is sought to document and improve understanding of similarities and differences among types of perpetrators and violence. To that end it will be necessary to examine; (1) Programs for intervening with men who only batter intimate partners may have to be different than those for men who batter intimate partners and maltreat their children, (2) whether among adolescents, prevention programs that currently focus on peer violence exclusively should assess and address dating violence, (3) the value of screening for intimate partner violence and sexual violence in primary health care settings. Currently, we lack information on available screening practices and their impact on women and the prevention of violence against women.”

On page 80893, first column, item numbered (2.) should be changed to read, “Document and improve understanding of the relationships and links between different types and of violence; and different forms of perpetration, especially among adolescent offenders. Of particular concern are:” On page 80893, first column, under item numbered (2.), first bullet should be changed to read, “* * * and perpetration to child abuse and sexual violence.”

On page 80893, first column, under item numbered (2.), between first and second bullet insert a bullet that reads: “The relationship between perpetration of intimate partner violence and perpetration of child abuse and sexual violence.”

On page 80893, first column, under item numbered (2.) following the last bullet insert a bullet that reads: “The relationship between youth violence directed at non-intimates and that directed at dates in the form of either sexual violence or physical abuse.”

On page 80893, first column, item number (3.) should be changed to read “* * * and child abuse. Of particular interest is:”

On page 80893, first column, under item numbered (3.) insert a bullet that reads “interventions that seek to prevent multiple types of violence perpetration.

Dated: February 6, 2001.
John L. Williams,
Director, Procurement and Grants Office, Centers for Disease Control and Prevention.

[FR Doc. 01-3482 Filed 2-9-01; 8:45 am]

BILLING CODE 4163-18-P